DEPARTMENT OF STATE

[Public Notice 5647]

60-Day Notice of Proposed Information Collection: DS-4048, Projected Sales of Major Weapons in Support of Section 25(a)(1) of the Arms Export Control Act; OMB Control Number 1405-0156

ACTION: Notice of request for public comment.

SUMMARY: The Department of State is seeking Office of Management and Budget (OMB) approval for information collection described below. The purpose of this notice is to allow 60 days for public comments in the Federal Register preceding submission to OMB of the Form DS-4048 as the means of collecting the information. We are conducting this process in accordance with the Paperwork Reduction Act of 1995.

• Title of Information Collection: Projected Sales of Major Weapons in Support of Section 25(a)(1) of the Arms Export Control Act.

• OMB Control Number: 1405-0156.

• Type of Request: Extension of Currently Approved Collection.

• Originating Office: Bureau of Political-Military Affairs, Directorate of Defense Trade Controls, PM/DDTC.

• Form Number: DS-4048.

• Respondents: Business organizations.

• Estimated Number of Respondents: 20 (total).

• Estimated Number of Responses: 20 (per year).

• Average Hours Per Response: 60 hours.

• Total Estimated Burden: 1,200 hours (per year).

• Frequency: Once a Year.

• Obligation to Respond: Voluntary.

DATES: The Department will accept comments from the public up to 60 days from December 20, 2006.

ADDRESSES: Comments and questions should be directed to Patricia C. Slygh, the Acting Director of the Office of Defense Trade Controls Management, Department of State, who may be reached via the following methods:

• E-mail: slyghpc@state.gov.

• Mail: Patricia C. Slygh, SA-1, 12th Floor, Directorate of Defense Trade Controls, Bureau of Political-Military Affairs, U.S. Department of State, Washington, DC 20522-0112.

• Fax: 202-261-8199.

You must include the DS form number, information collection title, and OMB control number in the subject lines of your message/letter.

FOR FURTHER INFORMATION CONTACT: Direct requests for additional information regarding the collection listed in this notice, including requests for copies of the information collection and supporting documents, to Patricia C. Slygh, PM/DDTC, SA-1, 12th Floor, Directorate of Defense Trade Controls, Bureau of Political-Military Affairs, U.S. Department of State, Washington, DC 20522-0112, who may be reached via e-mail at slyghpc@state.gov.

SUPPLEMENTARY INFORMATION: We are soliciting public comments to permit the Department to:

• Evaluate whether the proposed collection of information is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Section 25 of the Arms Export Control Act requires an annual report to Congress on projected sales of major weapons (if $7M or more) and non-major weapons (if $25M or more). In order to prepare this report, the Directorate of Defense Trade Controls (DDTC) requests information from selected defense companies, registered with DDTC, on relevant projected sales, including information on the foreign country to which the item is to be sold, a description of the item, the item's quantity, and its value.

Methodology: These forms/information collections may be sent to the Directorate of Defense Trade Controls via the following methods: mail, personal delivery, fax, and/or electronically.

Dated: December 8, 2006.
Gregory M. Suchan,
Deputy Assistant Secretary for Defense Trade Controls, Bureau of Political-Military Affairs, Department of State.

[FR Doc. E6-21730 Filed 12-19-06; 8:45 am]

BILLING CODE 4710-27-P